ELECTION ASSISTANCE COMMISSION

Sunshine Act; Notice of Public Meeting of the Technical Guidelines Development Committee

DATE AND TIME: The meeting will be held on Wednesday, December 9, 2009, from 8:30 a.m. until 5 p.m., and Thursday, December 10, 2009 from 8:30 a.m. to 5 p.m., Eastern Time.

STATUS: This meeting will be open to the public. There is no fee to attend, but, due to security requirements, advance registration is required. Registration information will be available at: http://www.vote.nist.gov.

SUMMARY: The Technical Guidelines Development Committee (TGDC) will meet in open session on Wednesday, December 9, 2009 from 8:30 a.m. to 5 p.m., Eastern Time, and Thursday, December 10, 2009 from 8:30 a.m. to 5 p.m., Eastern Time.

The Technical Guidelines Development Committee (the “Development Committee”) has scheduled a plenary meeting for December 9-10, 2009. The Committee was established to act in the public interest to assist the Executive Director of the U.S. Election Assistance Commission (EAC) in the development of voluntary voting system guidelines. The purpose of the meeting of the Development Committee will be to receive information from both National Institute of Standards and Technology (NIST) and the EAC regarding current standards development work. The Development Committee will also be briefed on the EAC's Testing and Certification process, UOCAVA work, as well as the EAC's Voting System Election Operations Assessment. The Development Committee will also begin to develop a work plan for its future work.

ADDRESSES: The meeting will take place at the National Institute of Standards and Technology (NIST), 100 Bureau Drive, Building 101, Gaithersburg, Maryland 20899-8900. Members of the public wishing to attend the meeting must notify Mary Lou Norris or Angela Ellis by COB. Wednesday, December 2, 2009, per instructions under the SUPPLEMENTARY INFORMATION section of this Notice.

FOR FURTHER INFORMATION CONTACT: John Wack, NIST Voting Program, Information Technology Laboratory, National Institute of Standards and Technology, 100 Bureau Drive, Stop 8970, Gaithersburg, MD 20899-8930, telephone: (301) 975-3411.

SUPPLEMENTARY INFORMATION: Pursuant to the Federal Advisory Committee Act, 5 U.S.C. App., notice is hereby given that the TGDC will meet Wednesday, December 9, 2009 from 8:30 a.m. to 5 p.m., Eastern time, and Thursday, December 10, 2009 from 8:30 a.m. to 5 p.m., Eastern time. All sessions will be open to the public. The TGDC was established pursuant to 42 U.S.C 15361, to act in the public interest to assist the Executive Director of the Election Assistance Commission (EAC) in the development of voluntary voting system guidelines. Details regarding the TGDC's activities are available at http://vote.nist.gov.

The Technical Guidelines Development Committee held their first plenary meeting on July 9, 2004. At this meeting, the Development Committee agreed to a resolution forming three working groups: (1) Human Factors & Privacy; (2) Security & Transparency; and (3) Core Requirements & Testing to gather information and review preliminary reports on issues pertinent to voluntary voting standard recommendations. At subsequent plenary sessions, additional resolutions were debated and adopted by the TGDC. The resolutions define technical work tasks for NIST that assist the TGDC in developing recommendations for voluntary voting system guidelines. The Development Committee approved initial recommendations for voluntary voting system guidelines at the April 20th & 21st, 2005 meeting. The recommendations were formally delivered to the EAC in May 2005 for their review. In September of 2005, the Development Committee began review of preliminary technical reports for the next iteration of voluntary voting system guidelines. The Development Committee began consideration of future recommendations for voluntary voting system guidelines at the September 29, 2005 meeting. At the March 29th, 2006 meeting, the Development Committee reviewed and approved draft technical guidance documents that will form the bases for recommendations for future voluntary voting system guidelines. The Committee reviewed, debated and approved draft recommendations for the next iteration of voluntary voting system guidelines at the May 21st and 22nd, 2007 meeting.

All visitors to the National Institute of Standards and Technology site will have to pre-register to be admitted. Anyone wishing to attend this meeting must register by COB. Wednesday, December 2, 2009, in order to attend. Please submit your name, time of arrival, e-mail address and phone number to Mary Lou Norris or Angela Ellis, and they will provide you with instructions for admittance. Non-U.S. citizens must also submit their country of citizenship, title, employer/sponsor, and address. Mary Lou Norris' e-mail address is marylou.norris@nist.gov, and her phone number is (301) 975-2002. Angela Ellis' e-mail address is angela.ellis@nist.gov, and her phone number is (301) 975-3881.

Members of the public may observe but not participate in EAC meetings unless this notice provides otherwise. Members of the public may use small electronic audio recording devices to record the proceedings. The use of other recording equipment and cameras requires advance notice to and coordination with the Commission's Communications Office.

Alice Miller,
Chief Operating Officer, U.S. Election Assistance Commission.

[FR Doc. E9-27874 Filed 11-17-09; 11:15 am]

BILLING CODE 6820-KF-P